DEPARTMENT OF HOUSING AND URBAN DEVELOPMENT

[Docket No. FR-5378-N-05]

Notice of Proposed Information Collection Comment Request; Economic Opportunities for Low- and Very Low-Income Persons

AGENCY: Office of the Assistant Secretary for Fair Housing and Equal Opportunity, HUD.

ACTION: Notice.

SUMMARY: The currently approved information collection related to Section 3 of the Housing and Urban Development Act of 1968 (2529-0043) will be submitted to the Office of Management and Budget (OMB) for an extension of the expiration date, as required by the Paperwork Reduction Act. Form HUD 60002 is being submitted without any changes. Form HUD 958 has been revised to more accurately reflect the complaint investigation procedures set forth in the Section 3 regulation at 24 CFR part 135. The Department is soliciting public comments on the subject proposal.

DATES: Comments Due Date: December 7, 2010.

ADDRESSES: Interested persons are invited to submit comments regarding this proposal. Comments should refer to the proposal by name and/or OMB Control Number and should be sent to: Colette Pollard, Paperwork Reduction Act Officer, Office of the Chief Information Officer, Department of Housing and Urban Development, 451 7th Street, SW., Room 4178, Washington, DC 20410. Telephone number (202) 402-3400.

FOR FURTHER INFORMATION CONTACT: Staci Gilliam, Director, Economic Opportunity Division, Office of Fair Housing and Equal Opportunity, Department of Housing and Urban Development, 451 7th Street, SW., Room 5234, Washington, DC 20410, telephone (202) 402-3468. (This is not a toll-free number.) Hearing- or speech-impaired individuals may access this number TTY by calling the toll-free Federal Information Relay Service at 1-800-877-8399.

SUPPLEMENTARY INFORMATION: The Department is submitting the currently approved information collection for 2529-0043 to OMB for an extension of the current expiration date, as required by the Paperwork Reduction Act of 1995 (44 U.S.C. Chapter 34, as amended). Form HUD 60002 is being submitted without any changes. Form HUD 958 has been revised to more accurately reflect the complaint investigation procedures set forth in the Section 3 regulation at 24 CFR part 135. This Notice is soliciting comments from members of the public and affected agencies concerning the proposed collection of information to: (1) Enhance the effectiveness of the Section 3 Program, (2) Enhance the quality, utility, and clarity of the information to be collected; and (3) Minimize the burden of the collection of information on those who respond, including the use of appropriate automated collection techniques or other forms of information technology, e.g., permitting electronic submission of responses.

Notice of Submission of Proposed Information Collection to OMB

Title of Proposal: Economic Opportunity for Low- and Very Low-Income Persons.

Office: Fair Housing and Equal Opportunity.

OMB Control Number: 2529-0043.

Description of the need for the information and proposed use:

A. The Section 3 Summary Report (HUD Form 60002)

The information will be used by the Department to monitor program recipients for compliance with the requirements of Section 3 of the Housing and Urban Development Act of 1968. HUD Headquarters will use the information to assess the results of each recipient's efforts to meet the regulatory objectives of Section 3, and to prepare mandatory reports for Congress and the general public assessing the effectiveness of Section 3. The data collected will be used by recipients as a self-monitoring tool. The data collection for this form is unchanged.

B. Complaint register (Revised HUD Form 958)

The information will be used by residents and businesses to submit complaints alleging noncompliance with the regulatory requirements of Section 3. HUD staff will use this form to respond to and investigate complaints filed. The data collection for this form has been revised to more accurately reflect the complaint investigation procedures set forth in the Section 3 regulation at 24 CFR part 135.

Agency form numbers, if applicable: Form HUD 60002 and HUD 958 Revised.

Members of affected public: State and local government agencies; public and private non-profit organizations; Public Housing Authorities; other public entities; low- and very low-income persons; and/or businesses that are either owned by, or substantially employ, low- or very low-income persons.

Estimation of the total number of hours needed to prepare the information collection including number of respondents, frequency of response, and hours of response: On an annual basis approximately 5,000 respondents (HUD recipients) will submit form HUD 60002 to HUD. It is estimated that four hours per annual reporting period will be required of the recipients to prepare the Section 3 report for a total of 20,000 hours. Form HUD 958 is submitted by approximately 100 persons annually and takes approximately 2 hours to complete for a total of 200 hours.

Status of the proposed information collection: Reinstatement of a currently approved collection of information from HUD recipients. Form HUD 60002 is unchanged. Form HUD 958 is submitted with changes.

Authority: The Paperwork Reduction Act of 1995, 44 U.S.C. Chapter 35, as amended.

Dated: September 29, 2010.
Staci Gilliam,
Director, Economic Opportunity Division.

[FR Doc. 2010-25358 Filed 10-7-10; 8:45 am]

BILLING CODE 4210-67-P